DEPARTMENT OF HOMELAND SECURITY

Coast Guard

[Docket No. USCG-2009-0168]

Notice of Public Availability of Navigation and Vessel Inspection Circular (NVIC) 2-10, “Guidance for Implementation and Enforcement of the Salvage and Marine Firefighting Regulations for Vessel Response Plans”

AGENCY: Coast Guard, DHS.

ACTION: Notice of availability.

SUMMARY: The Coast Guard announces the availability of NVIC 2-10, Guidance for Implementation and Enforcement of the Salvage and Marine Firefighting Regulations for Vessel Response Plans. The guidance contained in the NVIC provides details regarding the application and enforcement of the final rule, “Salvage and Marine Firefighting Requirements; Vessel Response Plans for Oil,” as published in the Federal Register on December 31, 2008 (73 CFR 80618). Regulators and industry have a need for further guidance in order to facilitate a better understanding of, and compliance with, the final rule. An electronic copy of NVIC 2-10 can be downloaded at http://www.uscg.mil/hq/cg5/nvic/default.asp or by searching the docket number above at http://www.regulations.gov.

FOR FURTHER INFORMATION CONTACT: If you have questions on this notice, call or e-mail LCDR Ryan Allain, Office of Vessel Activities (CG-5431), U.S. Coast Guard; telephone 202-372-1226, e-mail ryan.d.allain@uscg.mil. If you have questions on viewing or submitting material to the docket, call Renee V. Wright, Program Manager, Docket Operations, telephone 202-366-9826.

SUPPLEMENTARY INFORMATION:

Background and Purpose

We published a final rule in the Federal Register on December 31, 2008, requiring the identification of salvage and marine firefighting services in vessel response plans (73 FR 80618). The regulation requires appropriate salvage and marine firefighting resources to be identified, contracted for, and capable of responding to incidents up to and including the worst case discharge scenario. The rulemaking sets new response planning timeframes for each of the required salvage and marine firefighting services.

On August 31, 2009, the Coast Guard published another final rule concerning vessel response plans that deferred the implementation date for the salvage and marine firefighting requirements from June 1, 2010 to February 22, 2011 (Vessel and Facility Response Plans for Oil: 2003 Removal Equipment Requirements and Alternative Technology Revisions, 74 FR 45004). As a result, pursuant to 33 CFR 155.4020(a), tank vessel response plans incorporating salvage and firefighting changes must be submitted by February 22, 2011.

NVIC 2-10 provides voluntary guidance to vessel owners and operators, salvage and marine firefighting resource providers, and other members of the maritime industry for preparing and submitting the necessary information to comply with the requirements contained in the Salvage and Marine Firefighting Requirements; Vessel Response Plans for Oil, 33 CFR part 155, subpart I. The NVIC also contains an extensive list of frequently asked questions and job aids to assist affected industry in submitting the required updates to their vessel response plans.

This notice is issued under authority of 5 U.S.C. 552, and 33 CFR 1.05-15.

Dated: September 27, 2010.
Kevin S. Cook,
Rear Admiral, U.S. Coast Guard, Director of Prevention Policy.

[FR Doc. 2010-25071 Filed 10-5-10; 8:45 am]

BILLING CODE 9110-04-P